COMMITTEE FOR PURCHASE FROM PEOPLE WHO ARE BLIND OR SEVERELY DISABLED

Procurement List: Proposed Additions

AGENCY: Committee for Purchase From People Who Are Blind or Severely Disabled.

ACTION: Proposed Additions to the Procurement List.

SUMMARY: The Committee is proposing to add to the Procurement List products and services to be furnished by nonprofit agencies employing persons who are blind or have other severe disabilities.

Comments Must Be Received On or Before: 6/15/2009.

ADDRESSES: Committee for Purchase From People Who Are Blind or Severely Disabled, Jefferson Plaza 2, Suite 10800, 1421 Jefferson Davis Highway, Arlington, Virginia, 22202-3259.

For Further Information or to Submit Comments Contact: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to the Procurement List for production by the nonprofit agencies listed:

Products

Soy Candles, Assorted Scents, Glass Jar Container

NSN: MR 489—9.4 oz Vanilla

NSN: MR 490—9.4 oz Berry Blaster

NSN: MR 491—9.4 oz Ocean

NSN: MR 492—9.4 oz Lily

NSN: MR 493—3.7 oz Vanilla

NSN: MR 494—3.7 oz Berry Blaster

NSN: MR 495—3.7 oz Ocean

NSN: MR 496—3.7 oz Lily

NPA: Industries for the Blind, Inc., West Allis, WI

Contracting Activity: Military Resale—Defense Commissary Agency, Fort Lee, VA

Services

Service Type/Locations: Custodial Services

J. Caleb Boggs Courthouse & Federal Building, 844 N. King Street, Wilmington, DE

J. Allen Frear Federal Building, 300 South New Street, Dover, DE

Bridgeton SSA Office, 149 West Broad Street, Bridgeton, NJ

NPA: Opportunity Center, Incorporated, Wilmington, DE

Contracting Activity: Public Buildings Service, GSA/PBS/R03 Philatlantic, Philadelphia, PA

Service Type/Location: Relamping of Lighting Fixtures

Naval Hospital Bremerton: 1 Boone Road, Bremerton, WA

NPA: Skookum Educational Programs, Bremerton, WA

Contracting Activity: Dept. of the Navy, Engineering Field Activity, Poulsbo, WA

Service Type/Location: Custodial Service

Camp Bullis Buildings 6282 and 6287, 6929 Camp Bullis Rd., Camp Bullis, TX

NPA: Professional Contract Services, Inc., Austin, TX

Contracting Activity: Dept. of the Army, XR W6BB ACA Sam Houston, Fort Sam Houston, TX

Service Type/Location: Grounds Maintenance Services

U.S. Forest Service Northern CA Service Center, 6101 Airport Road, Redding, CA

NPA: Shasta County Opportunity Center, Redding, CA

Contracting Activity: Forest Service, North Zone Fire Cache, Redding, CA

Barry S. Lineback,
Director, Business Operations.

[FR Doc. E9-11311 Filed 5-14-09; 8:45 am]

BILLING CODE 6353-01-P